DEPARTMENT OF THE INTERIOR

National Park Service

[NPS-WASO-NAGPRA-22865; PPWOCRADN0-PCU00RP14.R50000]

Notice of Inventory Completion: U.S. Fish and Wildlife Service, Southeast Region, Hardeeville, SC

AGENCY: National Park Service, Interior.

ACTION: Notice.

SUMMARY: The U.S. Fish and Wildlife Service, Southeast Region (USFWS-SER) has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the USFWS-SER. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the USFWS-SER at the address in this notice by April 12, 2017.

ADDRESSES: Richard S. Kanaski, Regional Historic Preservation Officer & Regional Archaeologist, Savannah Coastal Refuges, Office of the Regional Archaeologist, 694 Beech Hill Lane, Hardeeville, SC 29927-8958, telephone (843) 784-6310, email richard_kanaski@fws.gov.

SUPPLEMENTARY INFORMATION: Notice is here given in accordance with the Native American Graves Protection and Repatriation Act (NAGPRA), 25 U.S.C. 3003, of the completion of an inventory of human remains and associated funerary objects under the control of the USFWS-SER, Hardeeville, SC. The human remains and associated funerary objects were removed from Limestone and Morgan Counties, AL, and Decatur County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Office of the Regional Archaeologist's professional staff in consultation with representatives of The Chickasaw Nation, Cherokee Nation, Eastern Band of Cherokee Indians, and United Keetoowah Band of Cherokee Indians in Oklahoma. The Coushatta Tribe of Louisiana and The Muscogee (Creek) Nation were invited to participate, but declined.

History and Description of the Remains

In 1979, human remains representing, at minimum, one individual were removed from site 40DR7 in Decatur County, TN. This one fragmentary human femur was removed during a general surface collection. Based upon the artifact assemblage recovered during the surface collection, site 40DR7 appeared to have been occupied during the Late Archaic, Middle Woodland, Late Woodland, and the Historic Periods. No known individual was identified. No associated funerary objects are present.

In 1953, human remains representing, at a minimum, three individuals, were removed from site 1LI48 in Limestone County, AL, during salvage excavations of the eroding shell midden. Based upon the recovered artifact assemblage, site 1LI48 was occupied during the Late Archaic through Late Woodland Periods. No known individuals were identified. No associated funerary objects are present.

In 1953, human remains representing, at a minimum, one individual, were removed from site 1MG107 in Morgan County, AL during salvage excavation of the eroding shell midden. Based upon the artifact assemblage, site 1MG107 was occupied during the Early Archaic through the Middle Woodland Periods. No known individual was identified. No associated funerary objects are present.

In 1969, human remains representing, at a minimum, seven individuals, were removed from site 1MG74 in Morgan County, AL during salvage excavations. The site was identified during Alabama Highway's construction of Interstate 65 across Wheeler National Wildlife Refuge and the Tennessee River.Site 1MG74 dates to the Early-Middle Woodland Periods. No known individuals were identified. No associated funerary objects are present.

In 1997, human remains representing, at a minimum, four individuals, were removed from site 1MG39 in Morgan County, AL as part of a federal law enforcement investigation of an archeological resource violation. Site 1MG39 was occupied at least as early as the Early Archaic [7000-8000 B.C.] and into the Mississippian Period [A.D. 1000]. The bulk of the occupation occurs during the Woodland Period [300 B.C.-A.D. 900]. No known individuals were identified. The 21 associated funerary objects include one left White-tailed deer scapular fragment, 10 UID mammal diaphyseal fragments, 1 UID turtle carapace fragment, 4 UID shell fragments, 1 sandstone abrader fragment, and 4 sand-temper plain ceramic sherds.

Determinations Made by the U.S. Fish and Wildlife Service, Southeast Region

Officials of the U.S. Fish and Wildlife Service, Southeast Region have determined that:

• Pursuant to 25 U.S.C. 3001(9), the human remains described in this notice represent the physical remains of 16 individuals of Native American ancestry.

• Pursuant to 25 U.S.C. 3001(3)(A), the 21 objects described in this notice are reasonably believed to have been placed with or near individual human remains at the time of death or later as part of the death rite or ceremony.

• Pursuant to 25 U.S.C. 3001(2), a relationship of shared group identity cannot be reasonably traced between the Native American human remains and any present-day Indian tribe.

• Treaties, Acts of Congress, or Executive Orders, indicate that the land from which the Native American human remains were removed is the aboriginal land of The Chickasaw Nation, Cherokee Nation, Eastern Band of Cherokee Indians, and United Keetoowah Band of Cherokee Indians in Oklahoma.

• Pursuant to 43 CFR 10.11(c)(1), the disposition of the human remains may be jointly to The Chickasaw Nation, Cherokee Nation, Eastern Band of Cherokee Indians, and United Keetoowah Band of Cherokee Indians in Oklahoma.

Additional Requestors and Disposition

Lineal descendants or representatives of any Indian tribe or Native Hawaiian organization not identified in this notice that wish to request transfer of control of these human remains and associated funerary objects should submit a written request with information in support of the request to Richard S. Kanaski, Regional Historic Preservation Officer & Regional Archaeologist, Savannah Coastal Refuges, Office of the Regional Archaeologist, 694 Beech Hill Lane, Hardeeville, South Carolina 29927-8958, telephone (843) 784-6310, email richard_kanaski@fws.gov, by April 12, 2017. After that date, if no additional requestors have come forward, transfer of control of the human remains and associated funerary objects to The Chickasaw Nation, Cherokee Nation, Eastern Band of Cherokee Indians, and United Keetoowah Band of Cherokee Indians in Oklahoma may proceed.

The U.S. Fish and Wildlife Service, Southeast Region is responsible for notifying The Chickasaw Nation, Cherokee Nation, Eastern Band of Cherokee Indians, and United Keetoowah Band of Cherokee Indians in Oklahoma that this notice has been published.

Dated: February 6, 2017.
Melanie O'Brien,
Manager, National NAGPRA Program.

[FR Doc. 2017-04852 Filed 3-10-17; 8:45 am]

BILLING CODE 4312-52-P